DEPARTMENT OF COMMERCE

Foreign-Trade Zones Board

[B-65-2019]

Foreign-Trade Zone (FTZ) 26—Atlanta, Georgia; Authorization of Production Activity; Ricoh Electronics, Inc. (Thermal Paper and Film); Lawrenceville and Buford, Georgia

On October 7, 2019, Ricoh Electronics, Inc. submitted a notification of proposed production activity to the FTZ Board for its facilities within FTZ 26, in Lawrenceville and Buford, Georgia.

The notification was processed in accordance with the regulations of the FTZ Board (15 CFR part 400), including notice in the Federal Register inviting public comment (84 FR 56161, October 21, 2019). On February 4, 2020, the applicant was notified of the FTZ Board's decision that no further review of the activity is warranted at this time. The production activity described in the notification was authorized, subject to the FTZ Act and the FTZ Board's regulations, including Section 400.14.

Dated: February 4, 2020.
Andrew McGilvray,
Executive Secretary.

[FR Doc. 2020-02565 Filed 2-7-20; 8:45 am]

BILLING CODE 3510-DS-P